DEPARTMENT OF THE INTERIOR

National Park Service

[NPS-WASO-NAGPRA-NPS0024192: PPWOCRADN0-PCU00RP14.R50000]

Notice of Inventory Completion: U.S. Department of the Interior, National Park Service, Tuzigoot National Monument, Clarkdale, AZ; Correction

AGENCY: National Park Service, Interior.

ACTION: Notice; correction.

SUMMARY: The U.S. Department of the Interior, National Park Service, Tuzigoot National Monument, has corrected an inventory of human remains and associated funerary objects, published in a Notice of Inventory Completion in the Federal Register on July 28, 2014. This notice corrects the minimum number of individuals and number of associated funerary objects. Lineal descendants or representatives of any Indian Tribe or Native Hawaiian organization not identified in this notice that wish to request transfer of control of these human remains and associated funerary objects should submit a written request to Tuzigoot National Monument. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Tuzigoot National Monument at the address in this notice by December 8, 2017.

ADDRESSES: Dorothy FireCloud, Superintendent, Tuzigoot National Monument, P.O. Box 219, Camp Verde, AZ 86322, telephone (928) 567-5276, email dorothy_firecloud@nps.gov.

SUPPLEMENTARY INFORMATION: Notice is here given in accordance with the Native American Graves Protection and Repatriation Act (NAGPRA), 25 U.S.C. 3003, of the correction of an inventory of human remains and associated funerary objects under the control of the U.S. Department of the Interior, National Park Service, Tuzigoot National Monument, Clarkdale, AZ. The human remains and associated funerary objects were removed from multiple locations in Coconino and Yavapai Counties, AZ.

This notice is published as part of the National Park Service's administrative responsibilities under NAGPRA, 25 U.S.C. 3003(d)(3). The determinations in this notice are the sole responsibility of the Superintendent, Tuzigoot National Monument.

This notice corrects the minimum number of individuals and number of associated funerary objects published in a Notice of Inventory Completion in the Federal Register (79 FR 43774, July 28, 2014). The human remains and associated funerary objects were inadvertently omitted from the published notice. Transfer of control of the additional items in this correction notice has not occurred.

Correction

In the Federal Register (79 FR 43775, July 28, 2014), column 2, paragraph 3, sentence 1, under the heading “History and Description of the Remains,” is corrected by substituting the following sentence:

At unknown dates, human remains representing, at minimum, 20 individuals were removed from unknown locations in Yavapai County, AZ.

In the Federal Register (79 FR 43775, July 28, 2014), column 2, paragraph 5, under the heading “History and Description of the Remains,” is corrected by substituting the following paragraph:

At unknown dates, human remains representing, at minimum, 19 individuals were removed from unknown locations in Yavapai County, AZ. The remains were found in Tuzigoot National Monument collections at the National Park Service's Western Archeological and Conservation Center and so were likely removed from the area of the monument. No known individuals were identified. The one associated funerary object is a soil sample.

In the Federal Register (79 FR 43775, July 28, 2014), column 2, under the heading “History and Description of the Remains,” is corrected by adding the following paragraph after paragraph 7:

In 1954, human remains representing, at minimum, one individual were removed from the Will Steele property in Coconino County, AZ by Tapco workmen working on the property. No known individuals were identified. The one associated funerary object is a bead.

In the Federal Register (79 FR 43775, July 28, 2014), column 3, paragraph 2, under the heading “Determinations Made by Tuzigoot National Monument,” is corrected by substituting the following paragraphs:

• Pursuant to 25 U.S.C. 3001(9), the human remains described in this notice represent the physical remains of 51 individuals of Native American ancestry.

• Pursuant to 25 U.S.C. 3001(3)(A), the two objects described in this notice are reasonably believed to have been placed with or near individual human remains at the time of death or later as part of the death rite or ceremony. The National Park Service intends to convey the associated funerary objects to the Tribes pursuant to 54 U.S.C. 102503(g) through (i) and 54 U.S.C 102504.

Additional Requestors and Disposition

Lineal descendants or representatives of any Indian Tribe or Native Hawaiian organization not identified in this notice that wish to request transfer of control of these human remains and associated funerary object should submit a written request with information in support of the request to Dorothy FireCloud, Superintendent, Tuzigoot National Monument, P.O. Box 219, Camp Verde, AZ 86322, telephone (928) 567-5276, email dorothy_firecloud@nps.gov, by December 8, 2017. After that date, if no additional requestors have come forward, transfer of control of the human remains and associated funerary objects to the Ak Chin Indian Community (previously listed as the Ak Chin Indian Community of the Maricopa (Ak Chin) Indian Reservation, Arizona); Apache Tribe of Oklahoma; Fort McDowell Yavapai Nation, Arizona; Fort Sill Apache Tribe of Oklahoma; Gila River Indian Community of the Gila River Indian Reservation, Arizona; Hopi Tribe of Arizona; Hualapai Indian Tribe of the Hualapai Indian Reservation, Arizona; Jicarilla Apache Nation, New Mexico; Mescalero Apache Tribe of the Mescalero Reservation, New Mexico; Salt River Pima-Maricopa Indian Community of the Salt River Reservation, Arizona; San Carlos Apache Tribe of the San Carlos Reservation, Arizona; Tohono O'odham Nation of Arizona; Tonto Apache Tribe of Arizona; White Mountain Apache Tribe of the Fort Apache Reservation, Arizona; Yavapai-Apache Nation of the Camp Verde Indian Reservation, Arizona; Yavapai-Prescott Indian Tribe (previously listed as the Yavapai-Prescott Tribe of the Yavapai Reservation, Arizona); and Zuni Tribe of the Zuni Reservation, New Mexico (hereafter referred to as “The Tribes”) may proceed.

Tuzigoot National Monument is responsible for notifying The Tribes that this notice has been published.

Dated: September 21, 2017
Melanie O'Brien,
Manager, National NAGPRA Program.

[FR Doc. 2017-24234 Filed 11-7-17; 8:45 am]

BILLING CODE 4312-52-P